FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 962. Interested parties may submit comments on an agreement to the Secretary, Federal Maritime Commission, Washington, DC 20573, within 10 days of the date this notice appears in the Federal Register.

Agreement No.: 203-011367-017.

Title: The Colombia Discussion Agreement.

Parties: Frontier Liner Service; Crowley Liner Services, Inc.; King Ocean de Colombia; Crowley American Transport; A.P. Moller-Maersk Sealand; Seaboard Marine Ltd.; American President Lines, Ltd.; and Crowley America Transport

Synopsis: The proposed amendment clarifies the authority of the parties to adopt voluntary guidelines with respect to the terms and procedures of their individual service contracts.

Agreement No.: 232-0110401-006.

Title: MLL/Hapag Lloyd Space Charter and Sailing Agreement.

Parties: Hapag Lloyd Container Linie GmbH; Lykes Lines Limited, LLC; and Mexican Line Limited.

Synopsis: The Agreement is amended to provide that it shall be suspended as of the date that the Grand Alliance-Americana Atlantic Agreement becomes effective and shall remain suspended during the term of the latter agreement.

Agreement No.: 203-011421-022.

Title: The East Coast of South America Discussion Agreement.

Parties: Crowley American Transport; Alianca Transportes Maritimos S.A.; Columbus Line; Lykes Lines Ltd., LLC; APL Co. PTE. Ltd.; P&O Nedlloyd B.V.; P&O Nedlloyd Limited; Pan American Independent Line; Zim Israel Navigation Co., Ltd.; Mediterranean Shipping Co. S.A.; Euroatlantic Container Line S.A.; DSR-Senator Line; A.P. Moller-Maersk Sealand; Compania Sud Americana de Vapores, S.A.; Evergreen Marine Corporation (Taiwan) Limited; Braztrans Transportes Maritimos Limitada; and Compania Libra de Navegacao.

Synopsis: The proposed amendment deletes outdated references within the Agreement, clarifies certain of the Agreement's authority provisions, and makes other administrative changes to the Agreement text.

Agreement No.: 203-011602-001.

Title: The Grand Alliance Agreement II.

Parties: Hapag-Lloyd Container Linie GmBH; Nippon Yusen Kaisha; Orient Overseas Container Line (UK) Ltd.; Orient Overseas Container Line, Inc.; P&O NedLloyd B.V.; P&O NedLloyd Limited.

Synopsis: The parties are amending the agreement to specifically allow them to sub-charter space from each other that was originally chartered from third-parties.

Agreement No.: 217-011704.

Title: NSCSA/Safmarine Space Charter Agreement.

Parties: National Shipping Company of Saudi Arabia (“NSCSA”); Safmarine Container Lines N.V. (“Safmarine”).

Synopsis: The agreement permits Safmarine to charter space on NSCSA vessels, and allows the parties to coordinate vessel operations and cooperate in related arrangements in the trade between the U.S. East and Gulf Coast and ports in India, Pakistan, the Arabian Gulf, the Red Sea and the Mediterranean Sea.

Agreement No.: 203-011705.

Title: Grand Alliance-Americana Atlantic Agreement.

Parties: Hapag-Lloyd Container linie GmBH; Nipon Yusen Kaisha; Orient Overseas Container line Limited; Orient Overseas Container Line (UK) Limited; Orient Overseas Container Line, Inc.; P&O Nedlloyd Limited/P&P Nedlloyd B.V.; Lykes Lines Limited, L.L.C.; and Mexican Lines Limited.

Synopsis: The agreement establishes a space charter and sailing agreement between the Grand Alliance Group and the Americana Group in the U.S.-North Europe Trades and authorizes activities incidental to such charters.

Dated: April 21, 2000.
By Order of the Federal Maritime Commission.
Theodore A. Zook,
Assistant Secretary.

[FR Doc. 00-10446 Filed 4-26-00; 8:45 am]

BILLING CODE 6730-01-P